DEPARTMENT OF TRANSPORTATION

Pipeline and Hazardous Materials Safety Administration

Hazardous Materials: Notice of Applications for New Special Permits

AGENCY: Pipeline and Hazardous Materials Safety Administration (PHMSA), Department of Transportation.

ACTION: List of applications for special permits.

SUMMARY: In accordance with the procedures governing the application for, and the processing of, special permits from the Department of Transportation's Hazardous Material Regulations, notice is hereby given that the Office of Hazardous Materials Safety has received the application described herein.

DATES: Comments must be received on or before May 7, 2025.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on April 2, 2025.
Donald P. Burger,
Chief, General Approvals and Permits Branch.

Special Permits Data
Application No. | Applicant | Regulation(s) affected | Nature of the special permits thereof
21965-N | Shijiazhuang Enric Gas Equipment Co., Ltd | 178.45(i)(2) | To authorize the manufacture, mark, sale, and use of specification DOT 3T cylinders using an alternative heat treatment batch size. (modes 1, 2, 3).
21966-N | Tampa Cargo S.A | 172.101(j) | To authorize the transportation in commerce of certain materials forbidden for transport via air by cargo-only aircraft. (mode 4).
21967-N | Suttons International (N.A.) Inc | 180.605(d), 180.605(h)(1) | To authorize the transportation in commerce of portable tanks that have been requalified using an alternative method. (modes 1, 3).
21968-N | Caterpillar Inc | 172.101(j), 173.185(a)(1) | To authorize the transportation in commerce of certain prototype and low production batteries exceeding 35 kg net weight via cargo-only aircraft. (mode 4).
21969-N | ECC Corrosion Inc | 172.203(a), 178.345-1, 180.413 | To authorize the manufacture, mark, sale, and use of manway assemblies constructed from a Dicyclopentadiene (DCPD) for installation on certain DOT specification cargo tank motor vehicles or Fiber Reinforced Plastic Cargo Tank Trailers for transportation of certain hazardous materials. (mode 1).
21974-N | Sawtooth Flying Service, Inc | 172.101(l)(3), 172.200, 173.202(c), 175.33, 175.75(b) | To authorize the transportation in commerce of cylinders containing certain Division 2.1 gases and Class 3 hazardous materials that are forbidden aboard passenger-carrying aircraft, in remote areas when no other means of transportation is available and without shipping papers. (modes 4, 5).
21975-N | Red Ball Oxygen Co., Inc | 177.848(d) | To authorize the transportation in commerce of certain DOT specification or UN certified packaging containing Division 2.1, 2.2, 2.3, 5.1, 4.3, and Class 3 and 8 materials on the same motor vehicle. (mode 1).
21977-N | United States Department of Energy | 173.211, 173.244 | To authorize the one-way transportation of solidified sodium metal contained in certain non-DOT specification non-bulk and bulk packages. (mode 1).
21981-N | Hill Brothers Chemical Company | 173.301(a)(6) | To authorize the transportation of 4 out of date Chlorine tons from one location to another. (mode 1).

[FR Doc. 2025-05946 Filed 4-4-25; 8:45 am]

BILLING CODE 4910-60-P